DEPARTMENT OF DEFENSE

Office of the Secretary

Revision to the Standard Forms 76, 76A, 186, and 186A

AGENCY: Under Secretary of Defense for Personnel and Readiness, Federal Voting Assistance Program, Department of Defense.

ACTION: Notice.

SUMMARY: The Department of Defense, Under Secretary of Defense (Personnel and Readiness), Federal Voting Assistance Program, revised the SF 76, Federal Post Card Application (FPCA), SF 76A, Federal Post Card Application (Electronic), SF 186, Federal Write-in Absentee Ballot (FWAB), and SF 186A, Federal Write-in Absentee Ballot (Electronic), to meet Federal laws and technology, including but not limited to, the use of electronic transmission for transmitting the form. The form will be stocked by GSA, Federal Acquisition Service, Inventory Management Branch (QSDLBAB), 819 Taylor Street, Fort Worth, TX 76102-0000 and available November 1, 2011.

DATES: Effective upon publication in the Federal Register.

FOR FURTHER INFORMATION CONTACT:

Mr. John Godley, Department of Defense, 703-588-8108.

Dated: August 8, 2011.
Aaron Siegel, Alternate OSD Federal Register Liaison Officer, Department of Defense.

[FR Doc. 2011-20421 Filed 8-10-11; 8:45 am]

BILLING CODE 5001-06-P